DEPARTMENT OF AGRICULTURE

Animal and Plant Health Inspection Service

[Docket No. APHIS-2013-0071]

Notice of Request for Approval of an Information Collection; National Animal Health Monitoring System; Bison 2014 Study

AGENCY: Animal and Plant Health Inspection Service, USDA.

ACTION: New information collection; comment request.

SUMMARY: In accordance with the Paperwork Reduction Act of 1995, this notice announces the Animal and Plant Health Inspection Service's intention to request approval of a new information collection for the National Animal Health Monitoring System's Bison 2014 Study to support the bison industry of the United States.

DATES: We will consider all comments that we receive on or before November 22, 2013.

ADDRESSES: You may submit comments by either of the following methods:

• Federal eRulemaking Portal: Go to http://www.regulations.gov/#!documentDetail;D=APHIS-2013-0071-0001.

• Postal Mail/Commercial Delivery: Send your comment to Docket No. APHIS-2013-0071, Regulatory Analysis and Development, PPD, APHIS, Station 3A-03.8, 4700 River Road Unit 118, Riverdale, MD 20737-1238.

Supporting documents and any comments we receive on this docket may be viewed at http://www.regulations.gov/#!docketDetail;D=APHIS-2013-0071 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Bison 2014 Study, contact Mr. Chris Quatrano, Industry Analyst, Centers for Epidemiology and Animal Health, VS, APHIS, 2150 Centre Avenue, Building B MS 2E7, Fort Collins, CO 80526; (970) 494-7207. For copies of more detailed information on the information collection, contact Mrs. Celeste Sickles, APHIS' Information Collection Coordinator, at (301) 851-2908.

SUPPLEMENTARY INFORMATION: Title: National Animal Health Monitoring System; Bison 2014 Study.

OMB Number: 0579-XXXX.

Type of Request: Approval of a new information collection.

Abstract: Under the Animal Health Protection Act (7 U.S.C. 8301 et seq.), the Animal and Plant Health Inspection Service (APHIS) of the U.S. Department of Agriculture is authorized, among other things, to protect the health of U.S. livestock and poultry populations by preventing the introduction and interstate spread of serious diseases and pests of livestock and by eradicating such diseases from the United States when feasible. In connection with this mission, APHIS operates the National Animal Health Monitoring System (NAHMS), which collects nationally representative, statistically valid, and scientifically sound data on the prevalence and economic importance of livestock diseases and associated risk factors.

NAHMS' national studies are a collaborative industry and Government initiative to help determine the most effective means of preventing and controlling diseases of livestock. APHIS is the only agency responsible for collecting national data on livestock health.

APHIS plans to conduct a Bison 2014 Study to obtain baseline information about the livestock population and to provide a foundation for possible future studies. The objectives of the study are to:

• Provide a baseline description of the U.S. bison industry, including general characteristics of operations, such as inventory, size, and type;

• Describe current U.S. bison industry production practices and challenges, including animal identification, confinement and handling, care, and disease testing;

• Describe health management and biosecurity practices important for the productivity and health of ranched bison; and

• Describe producer-reported occurrence of select health problems and evaluate potentially associated risk factors.

The study will consist of a self-administered questionnaire. APHIS will analyze and organize the information collected into one or more reports. The information collected will be used by APHIS to describe current bison health and management practices, help policymakers and industry make informed decisions, help researchers and private enterprise identify and focus on vital issues related to bison health and productivity, facilitate the education of future producers and veterinarians, and conduct economic analyses of the health and production of the U.S. bison industry.

On March 20, 2012, NAHMS was recognized by the Office of Management and Budget (OMB) as a statistical unit under the Confidential Information Protection and Statistical Efficiency Act of 2002 (CIPSEA). All information acquired under the Bison 2014 Study will be used for statistical purposes only and will be treated as confidential in accordance with CIPSEA guidelines. Only NAHMS staff and designated agents will be permitted access to individual-level data.

We are asking OMB to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies, such as electronic submission of responses.

Estimate of burden: The public reporting burden for this collection of information is estimated to average 0.33 hours per response.

Respondents: Bison owners and operators.

Estimated annual number of respondents: 1,200.

Estimated annual number of responses per respondent: 1.

Estimated annual number of responses: 1,200.

Estimated total annual burden on respondents: 396 hours. (Due to averaging, the total annual burden hours may not equal the product of the annual number of responses multiplied by the reporting burden per response.)

All responses to this notice will be summarized and included in the request for OMB approval. All comments will also become a matter of public record.

Done in Washington, DC, this 17th day of September 2013.
Michael C. Gregoire,
Acting Administrator, Animal and Plant Health Inspection Service.

[FR Doc. 2013-23038 Filed 9-20-13; 8:45 am]

BILLING CODE 3410-34-P